DEPARTMENT OF LABOR

Employment and Training Administration

[TA-W-81,335]

Technicolor Creative Services, Post Production Feature Mastering Division, Hollywood, California; Notice of Termination of Reconsideration Investigation

Pursuant to Section 221 of the Trade Act of 1974, as amended, a reconsideration investigation was initiated in on August 1, 2012 by the Department of Labor on behalf of workers and former workers of the subject firm.

The worker group on whose behalf the request for reconsideration was filed is eligible to apply for Trade Adjustment Assistance under TA-W-82,166 (issued on February 14, 2013). The request for reconsideration has been withdrawn. Consequently, the investigation has been terminated.

Signed in Washington, DC, this April 15, 2013.
Del Min Amy Chen,
Certifying Officer, Office of Trade Adjustment Assistance.

[FR Doc. 2013-11462 Filed 5-14-13; 8:45 am]

BILLING CODE 4510-FN-P